DEPARTMENT OF TRANSPORTATION

Federal Aviation Administration

14 CFR Part 39

[Docket No. FAA-2023-0426; Project Identifier MCAI-2022-01324-A]

RIN 2120-AA64

Airworthiness Directives; Pilatus Aircraft Ltd. Airplanes

AGENCY: Federal Aviation Administration (FAA), DOT.

ACTION: Notice of proposed rulemaking (NPRM).

SUMMARY: The FAA proposes to supersede Airworthiness Directive (AD) 2021-10-28, which applies to all Pilatus Aircraft Ltd. (Pilatus) Model PC-24 airplanes. AD 2021-10-28 requires incorporating new revisions to the airworthiness limitations section (ALS) of the existing airplane maintenance manual (AMM) or Instructions for Continued Airworthiness (ICA) to incorporate new or more restrictive airworthiness limitations. Since the FAA issued AD 2021-10-28, the FAA has determined that new or more restrictive airworthiness limitations are necessary. This proposed AD would require revising the ALS of the existing AMM or ICA for your airplane, as specified in a European Union Aviation Safety Agency (EASA) AD, which is proposed for incorporation by reference (IBR). The FAA is proposing this AD to address the unsafe condition on these products.

DATES: The FAA must receive comments on this NPRM by April 24, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-0426; or in person at Docket Operations between 9 a.m. and 5 p.m., Monday through Friday, except Federal holidays. The AD docket contains this NPRM, the mandatory continuing airworthiness information (MCAI), any comments received, and other information. The street address for Docket Operations is listed above.

Material Incorporated by Reference

• For material that is proposed for IBR in this NPRM, contact EASA, Konrad-Adenauer-Ufer 3, 50668 Cologne, Germany; phone: +49 221 8999 000; email: ADs@easa.europa.eu; website: easa.europa.eu. You may find this material on the EASA website at ad.easa.europa.eu.

• You may view this service information at the FAA, Airworthiness Products Section, Operational Safety Branch, 901 Locust, Kansas City, MO 64106. For information on the availability of this material at the FAA, call (817) 222-5110.

FOR FURTHER INFORMATION CONTACT: Doug Rudolph, Aviation Safety Engineer, General Aviation & Rotorcraft Section, International Validation Branch, 901 Locust, Room 301, Kansas City, MO 64106; phone: (816) 329-4059; email: doug.rudolph@faa.gov.

SUPPLEMENTARY INFORMATION:

Comments Invited

The FAA invites you to send any written relevant data, views, or arguments about this proposal. Send your comments to an address listed under ADDRESSES. Include “Docket No. FAA-2023-0426; Project Identifier MCAI-2022-01324-A” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aviation Safety Engineer, General Aviation & Rotorcraft Section, International Validation Branch, 901 Locust, Room 301, Kansas City, MO 64106. Any commentary that the FAA receives which is not specifically designated as CBI will be placed in the public docket for this rulemaking.

Background

The FAA issued AD 2021-10-28, Amendment 39-21561 (86 FR 30763, June 10, 2021) (AD 2021-10-28), for all Pilatus Model PC-24 airplanes. AD 2021-10-28 was prompted by MCAI originated by EASA, which is the Technical Agent for the Member States of the European Union. EASA issued AD 2020-0202, dated September 22, 2020 (EASA AD 2020-0202) to prevent reduction in the structural integrity of the airframe and components, as well as an unrecognized failure of the manual pitch trim, which could lead to loss of control of the airplane. This prompted the FAA to issue AD 2021-10-28.

AD 2021-10-28 requires incorporating new revisions to the ALS of the existing AMM or ICA to incorporate new tasks for the control column sprocket gear assembly and control wheel column assembly, to address the new limit of validity and update the usage assumptions and conditions for operations on unpaved and grass runways, and to correct an error in the horizontal stabilizer primary trim system secondary power source operational test.

Actions Since AD 2021-10-28 Was Issued

Since the FAA issued AD 2021-10-28, EASA superseded EASA AD 2020-0202 and issued EASA AD 2022-0207, dated October 10, 2022 (EASA AD 2022-0207) (referred to after this as the MCAI), for all Pilatus Model PC-24 airplanes. The MCAI states that new or more restrictive tasks and limitations have been developed. These new or more restrictive airworthiness limitations include introducing new Certification Maintenance Requirement (CMR) Task AL-24-60-004, Emergency Power Contactor 2, by converting the existing Scheduled Maintenance Task SM-24-60-0004, Emergency Contactor 2 Test (EC2 Test) into that CMR task. The FAA is issuing this AD to address failure of certain parts, which could result in loss of control of the airplane. Additionally, the actions required to address the unsafe condition in AD 2021-10-28 are included in “the applicable ALS,” as defined in EASA AD 2022-0207. You may examine the MCAI in the AD docket at regulations.gov under Docket No. FAA-2023-0426.

Related Service Information Under 1 CFR Part 51

EASA AD 2022-0207 requires certain actions and associated thresholds and intervals, including life limits and maintenance tasks.

This material is reasonably available because the interested parties have access to it through their normal course of business or by the means identified in ADDRESSES.

FAA's Determination

These products have been approved by the aviation authority of another country and is approved for operation in the United States. Pursuant to the FAA's bilateral agreement with the State of Design Authority, it has notified the FAA of the unsafe condition described in the MCAI described above. The FAA is issuing this NPRM after determining that the unsafe condition described previously is likely to exist or develop in other products of the same type design.

Proposed AD Requirements in This NPRM

This proposed AD would retain none of the requirements of AD 2021-10-28. This proposed AD would require revising the ALS of the existing AMM or ICA for your airplane as specified in EASA AD 2022-0207, described previously. The owner/operator (pilot) holding at least a private pilot certificate may revise the ALS of the existing AMM or ICA for your airplane, and performance of this incorporation must be entered into the aircraft records showing compliance with this AD in accordance with 14 CFR 43.9(a) and 14 CFR 91.417(a)(2)(v). The record must be maintained as required by 14 CFR 91.417, 121.380, or 135.439.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2022-0207 by reference in the FAA final rule. Service information required by the EASA AD for compliance will be available at regulations.gov by searching for and locating Docket No. FAA-2023-0426 after the FAA final rule is published.

Differences Between This Proposed AD and EASA AD 2022-0207

Paragraph (2) of EASA AD 2022-0207 requires corrective action in accordance with the applicable Pilatus maintenance documentation or contacting Pilatus for approved instructions and accomplishing those instructions accordingly. Paragraph (3) of EASA AD 2022-0207 requires revising the approved aircraft maintenance program. Paragraph (4) of EASA AD 2022-0207 provides credit for performing actions in accordance with previous revisions of the Pilatus AMM. Paragraph (5) of EASA AD 2022-0207 explains that after revision of the approved aircraft maintenance program, it is not necessary to record accomplishment of individual actions for demonstration of AD compliance. This proposed AD would not require compliance with paragraphs (2) through (5) of EASA AD 2022-0207.

Costs of Compliance

The FAA estimates that this AD, if adopted as proposed, would affect 73 airplanes of U.S. registry. Labor rates are estimated at $85 per work-hour. Based on these figures, the FAA estimates that revising the ALS of the existing AMM or ICA for your airplane would require about 1 work-hour for an estimated cost on U.S. operators of $6,205 or $85 per airplane.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-10-28, Amendment 39-21561 (86 FR 30763, June 10, 2021); and

b. Adding the following new AD:

Pilatus Aircraft Ltd.: Docket No. FAA-2023-0426; Project Identifier MCAI-2022-01324-A.

(a) Comments Due Date

The FAA must receive comments on this airworthiness directive (AD) by April 24, 2023.

(b) Affected ADs

This AD replaces AD 2021-10-28, Amendment 39-21561 (86 FR 30763, June 10, 2021) (AD 2021-10-28).

(c) Applicability

This AD applies to Pilatus Aircraft Ltd. Model PC-24 airplanes, all serial numbers, certificated in any category.

(d) Subject

Joint Aircraft System Component (JASC) Code 0500, Time Limits/Maintenance Checks.

(e) Unsafe Condition

This AD was prompted by mandatory continuing airworthiness information (MCAI) originated by an aviation authority of another country to identify and correct an unsafe condition on an aviation product. The MCAI states that failure to revise the airworthiness limitations section (ALS) of the existing aircraft maintenance manual (AMM) by introducing new or more restrictive tasks and limitations, which introduces a new certification maintenance requirement (CMR) task to test emergency power contactor 2, could result in an unsafe condition. The FAA is issuing this AD to address failure of certain parts, which could result in loss of control of the airplane.

(f) Compliance

Comply with this AD within the compliance times specified, unless already done.

(g) Required Actions

(1) Before further flight after the effective date of this AD, revise the ALS of the existing AMM or Instructions for Continued Airworthiness for your airplane by incorporating the requirements specified in paragraph (1) of European Union Aviation Safety Agency AD 2022-0207, dated October 10, 2022 (EASA AD 2022-0207).

(2) The actions required by paragraph (g)(1) of this AD may be performed by the owner/operator (pilot) holding at least a private pilot certificate and must be entered into the aircraft records showing compliance with this AD in accordance with §§ 43.9(a) and 91.417(a)(2)(v). The record must be maintained as required by § 91.417, 121.380, or 135.439.

(h) Provisions for Alternative Requirements (Airworthiness Limitations)

After the actions required by paragraph (g) of this AD have been done, no alternative requirements (airworthiness limitations) are allowed unless they are approved as specified in the provisions of the “Ref. Publications” section of EASA AD 2022-0207.

(i) Alternative Methods of Compliance (AMOCs)

(1) The Manager, International Validation Branch, FAA, has the authority to approve AMOCs for this AD, if requested using the procedures found in § 39.19. In accordance with § 39.19, send your request to your principal inspector or local Flight Standards District Office, as appropriate. If sending information directly to the International Validation Branch, send it to the attention of the person identified in paragraph (j) of this AD or email to: 9-AVS-AIR-730-AMOC@faa.gov. If mailing information, also submit information by email. Before using any approved AMOC, notify your appropriate principal inspector, or lacking a principal inspector, the manager of the responsible Flight Standards Office.

(2) Global AMOC AIR-730-22-248, dated July 12, 2022, was approved as an AMOC for the requirements of AD 2021-10-28, and is approved as an AMOC for the requirements of paragraph (g) of this AD. Other AMOCs previously issued for the requirements of AD 2021-10-28 are not approved as an AMOC for the requirements of this AD.

(j) Additional Information

For more information about this AD, contact Doug Rudolph, Aviation Safety Engineer, General Aviation & Rotorcraft Section, International Validation Branch, 901 Locust, Room 301, Kansas City, MO 64106; phone: (816) 329-4059; email: doug.rudolph@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) European Union Aviation Safety Agency (EASA) AD 2022-0207, dated October 10, 2022.

(ii) [Reserved]

(3) For EASA AD 2022-0207, contact EASA, Konrad-Adenauer-Ufer 3, 50668 Cologne, Germany; phone: +49 221 8999 000; email: ADs@easa.europa.eu; website easa.europa.eu. You may find this EASA AD on the EASA website at ad.easa.europa.eu.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on March 2, 2023.
Christina Underwood,
Acting Director, Compliance & Airworthiness Division, Aircraft Certification Service.

[FR Doc. 2023-04623 Filed 3-7-23; 8:45 am]

BILLING CODE 4910-13-P